NATIONAL AERONAUTICS AND SPACE ADMINISTRATION

[Notice 01-006]

Notice of Prospective Patent License

AGENCY: National Aeronautics and Space Administration.

ACTION: Notice of prospective patent license.

SUMMARY: NASA hereby gives notice that Nascent Technology Solutions, LLC, of Hampton, VA, has applied for an exclusive license to practice the invention disclosed in U.S. Patent No. 5,393,980 entitled “QUALITY MONITOR AND MONITORING TECHNIQUE EMPLOYING OPTICALLY STIMULATED ELECTRON EMISSION,” which has been assigned to the United States of America as represented by the Administrator of the National Aeronautics and Space Administration. Written objections to the prospective grant of a license should be sent to Langley Research Center.

DATES: Responses to this notice must be received by March 19, 2001.

FOR FURTHER INFORMATION CONTACT: Helen M. Galus, Patent Attorney, Langley Research Center, Mail Code 212, Hampton, VA 23681-2199; telephone (757) 864-3227.

Dated: January 9, 2001.
Edward A. Frankle,
General Counsel.

[FR Doc. 01-1472 Filed 1-17-01; 8:45 am]

BILLING CODE 7510-01-P